DEPARTMENT OF ENERGY

Federal Energy Regulatory Commission

[Project No. 2106-047—California]

Pacific Gas and Electric Company; Notice of Intent To File License Application, Filing of Pre-Application Document, Commencement of Licensing Proceeding, Scoping Meetings, Solicitation of Scoping Comments on the Pad and Scoping Document, and Identification of Issues and Associated Study Requests

September 25, 2006.

a. Type of Filing: Notice of Intent to File a License Application and Pre-Filing Document (PAD) under the Commission's Integrated Licensing Process and Commencing Licensing Proceeding.

b. Project No.: 2106-047.

c. Dated Filed: July 27, 2006.

d. Submitted By: Pacific Gas and Electric Company.

e. Name of Project: McCloud-Pit Hydroelectric Project.

f. Location: The McCloud-Pit Hydroelectric Project is located on the McCloud and Pit Rivers in Shasta County, California. The project occupies lands of the United States, managed by the United States Department of Agriculture-Forest Service.

g. Filed Pursuant to: 18 CFR part 5 of the Commission's Regulations

h. Applicant Contact: Randal Livingston, Senior Director, Power Generation, Pacific Gas and Electric Company, P.O. Box 770000, N11E/1137, San Francisco, CA 94177; (415) 973-6950, facsimile (415) 973-5323.

i. FERC Contact: Emily Carter at (202) 502-6512 or e-mail at emily.carter@ferc.gov.

j. We are asking Federal, State, local, and tribal agencies with jurisdiction and/or expertise with respect to environmental issues to cooperate with us in the preparation of the environmental document. Agencies who would like to request cooperating status should follow the instructions for filing comments described in paragraph “n” below.

k. With this notice we are initiating informal consultation with: (a) The United States Fish and Wildlife Service and/or National Marine Fisheries under section 7 of the Endangered Species Act and the joint agency regulations there under at 50 CFR Part 402; and (b) the State Historic Preservation Officer, as required by section 106 of the National Preservation Act, and the implementing regulations of the Advisory Council on Historic Preservation at 50 CFR 800.2.

l. Pacific Gas and Electric Company filed a Pre-Application Document (PAD) including a proposed process plan and schedule with the Commission, pursuant to 18 CFR 5.6 of the Commission's regulations.

m. A copy of the PAD is available for review at the Commission in the Public Reference Room or may be viewed on the Commission's Web site (http://www.ferc.gov), using the “eLibrary” link. Enter the docket number (P-2106-047), excluding the last three digits in the docket number field to access the document. For assistance, contact FERC Online Support at FERCOnlineSupport@ferc.gov or toll free at 1-866-208-3676, or for TTY, (202) 502-8659. A copy is also available for inspection and reproduction at the address in paragraph “h.”

Register online at http://ferc.gov/esubscribenow.htm to be notified via e-mail of new filing and issuances related to this or other pending projects. For assistance, contact FERC Online Support.

n. With this notice, we are soliciting comments on the Scoping Document 1 (SD1). All comments on SD1 should be sent to the address above in paragraph “h.” In addition, all comments on SD1, and all communications to and from Commission staff related to the merits of the potential application (original and eight copies) must be filed with the Commission at the following address: Magalie R. Salas, Secretary, Federal Energy Regulatory Commission, 888 First Street, NE., Washington, DC 20426. All filings with the Commission must include on the first page, the project name (McCloud-Pit Hydroelectric Project) and number (P-2106-047), and bear the heading “Comments on Pre-Application Document,” “Comments on Scoping Document 1,” “Study Requests,” “Request for Cooperating Agency Status,” or “Communications to and from Commission Staff.” Any individual or entity interested in commenting on the PAD or SD1, submitting study requests, or any agency requesting cooperating status must do so by October 25, 2006.

Comments on SD1and other permissible forms of communications with the Commission may be filed electronically via the Internet, in lieu of paper. The Commission strongly encourages electronic filings.

See 18 CFR 385.2001(a)(1)(iii) and the instructions on the Commission's Web site (http://www.ferc.gov) under the “e-filing” link.

o. At this time, Commission staff intends to prepare and Environmental Assessment (EA) for this project, in accordance with the National Environmental Policy Act (NEPA). There is the possibility, however, that an Environmental Impact Statement (EIS) will be required. Nevertheless, the scoping meetings will satisfy the NEPA scoping requirements, irrespective of whether an EA or EIS is issued by the Commission.

Scoping Meetings

Commission staff will hold two scoping meetings in the vicinity of the project at the times and place noted below. The agenda for each meeting is also listed below. We invite all interested individuals, organizations, and agencies to attend one or all of the meetings, and to assist staff in identifying particular study needs, as well as the scope of environmental issues to be addressed in the environmental document. We encourage all attendees to review the PAD before the meetings to facilitate effective discussion.

The times, location, and agendas of these meetings are as follows:

All meetings will be held in the same location: Holiday Inn Hotel, 1900 Hilltop Dr., Redding, CA.

Day 1—Evening Scoping Meeting

Date: Monday, October 23, 2006.

Time: 6 p.m.-9 p.m. (PST).

Agenda:

Session 1—6-7 p.m.:

—“Open House” atmosphere.

—All interested parties bring forth issues for discussion on a one-on-one basis with FERC staff.

—All issues and comments will be summarized.

Session 2—7-9 p.m.:

—Brief overview of the identified issues.

—Summary of the Open House Session.

—Open discussion of issues, management objectives, existing information, data gaps, and information needs.

—Discussion of integrated process plan.

Day 2—Morning Scoping Meeting

Date: Tuesday, October 24, 2006.

Time: 9 a.m.-11 a.m.

Agenda:

—Brief overview of the identified issues and summary of evening meeting and open house session.

—Open discussion of issues, management objectives, existing information, data gaps, and information needs.

—Discussion and Finalization of integrated process plan.

SD1, which outlines the subject areas to be addressed in the environmental document, will be mailed to the individuals and entities on the Commission's mailing list. Copies of SD1 will be available at the scoping meetings, or may be viewed on the Web at http://www.ferc.gov, using the “eLibrary” link. Follow the directions for accessing information in paragraph “m” above. Based on all oral and written comments, a Scoping Document 2 (SD2) may be issued. SD2 may include a revised process plan and schedule, as well as a revised list of issues identified through the scoping process.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of Federal, State, and Tribal permitting and certification processes; and (5) discuss the appropriateness of any federal or state agency or Indian tribe acting as a cooperating agency for development of an environmental document.

Meeting Procedures

The meetings will be recorded by a stenographer and will become part of the formal record of the Commission proceeding on the project.

Magalie R. Salas,
Secretary.

[FR Doc. E6-16007 Filed 9-28-06; 8:45 am]

BILLING CODE 6717-01-P